DEPARTMENT OF THE TREASURY

Senior Executive Service; Legal Division Performance Review Board

AGENCY: Department of the Treasury.

ACTION: Notice of members of the Legal Division Performance Review Board (PRB).

SUMMARY: Pursuant to 5 U.S.C. 4314(c)(4), this notice announces the appointment of members of the Legal Division PRB. The purpose of this Board is to review and make recommendations concerning proposed performance appraisals, ratings, bonuses, and other appropriate personnel actions for incumbents of SES positions in the Legal Division.

DATES: Effective Date: September 28, 2011.

FOR FURTHER INFORMATION CONTACT: Office of the General Counsel, Department of the Treasury, 1500 Pennsylvania Avenue, NW., Room 3000, Washington, DC 20220, Telephone: (202) 622-0283 (this is not a toll-free number).

SUPPLEMENTARY INFORMATION:

Composition of Legal Division PRB

The Board shall consist of at least three members. In the case of an appraisal of a career appointee, more than half the members shall consist of career appointees. Composition of the specific PRBs will be determined on an ad hoc basis from among the individuals listed in this notice.

The names and titles of the PRB members are as follows:

Rupa Bhattacharyya, Deputy Assistant General Counsel (International Affairs); Peter A. Bieger, Deputy Assistant General Counsel (Banking and Finance); George Bostick, Benefits Tax Counsel; Michael Caballero, International Tax Counsel; Himamauli Das, Assistant General Counsel (International Affairs); Rochelle F. Granat, Assistant General Counsel (General Law, Ethics and Regulation); Elizabeth Horton, Deputy Assistant General Counsel (Ethics); Catherine E. Livingston, Special Counsel to the Chief Counsel Healthcare Program, Internal Revenue Service; M.J.K. Maher, Jr., Deputy Assistant General Counsel (Enforcement & Intelligence); Margaret V. Marquette, Chief Counsel, Financial Management Service; Christopher J. Meade, Principal Deputy General Counsel; Mark Monborne, Assistant General Counsel (Enforcement & Intelligence); Helen Morrison, Deputy Benefits Tax Counsel; Kevin Rice, Chief Counsel, Bureau of Engraving and Printing; Daniel P. Shaver, Chief Counsel, United States Mint; Brian Sonfield, Deputy Assistant General Counsel (General Law and Regulation); Sean M. Thornton, Chief Counsel, Office of Foreign Assets Control; Robert M. Tobiassen, Chief Counsel, Alcohol and Tobacco Tax and Trade Bureau; Jeffrey Van Hove, Tax Legislative Counsel; Christian A. Weideman, Deputy General Counsel; Curtis G. Wilson, Associate Chief Counsel (Passthroughs & Special Industries), Internal Revenue Service and; Paul Wolfteich, Chief Counsel, Bureau of Public Debt.

Dated: September 20, 2011.
George W. Madison,
General Counsel.

[FR Doc. 2011-24923 Filed 9-27-11; 8:45 am]

BILLING CODE 4810-25-P